FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than April 22, 2024.

A. Federal Reserve Bank of Chicago (Colette A. Fried, Assistant Vice President) 230 South LaSalle Street, Chicago, IL 60604. Comments can also be sent electronically to Comments.applications@chi.frb.org:

1. Foote Shingleton 2004 Irrevocable Trust fbo Elizabeth Shingleton Glomsrud, Foote Shingleton 2004 Irrevocable Trust fbo Jennifer Shingleton Ewing, and Foote Shingleton 2004 Irrevocable Trust, fbo Rebecca Shingleton, all of Sanibel, Florida, and Kenneth Foote, Brighton, Michigan, as trustee of each of these trusts; Mamie M. Foote Trust No. 1, Mamie M. Foote, as trustee, both of Golden Oak, Florida; The William R. Thomas Trust dated 8/26/20, William Thomas and Megan Furman as trustees, all of Ann Arbor, Michigan; and Abigail Thomas King, Charlotte, North Carolina, to join the Foote Family Control Group, a group acting in concert, and to acquire voting shares of First National Bancshares, Inc., and thereby indirectly control First National Bank of America, both of East Lansing, Michigan.

B. Federal Reserve Bank of Kansas City (Jeffrey Imgarten, Assistant Vice President) 1 Memorial Drive, Kansas City, Missouri 64198-0001. Comments can also be sent electronically to KCApplicationComments@kc.frb.org:

1. Karen C. Smith, Ada, Oklahoma; to join the Smith Family Group, a group acting in concert, to retain voting shares of CitizensAda Financial Corporation, and thereby indirectly retain voting shares of Citizens Bank of Ada, both of Ada, Oklahoma.

Board of Governors of the Federal Reserve System.
Michele Taylor Fennell,
Deputy Associate Secretary of the Board.

[FR Doc. 2024-07298 Filed 4-4-24; 8:45 am]

BILLING CODE P